DEPARTMENT OF THE INTERIOR

Request for Nominations for the Invasive Species Advisory Committee Extension of Submission Deadline

AGENCY: Office of the Secretary, National Invasive Species Council.

ACTION: Request for Nominations for the Invasive Species Advisory Committee Extension of Submission Deadline.

SUMMARY: The U.S. Department of the Interior, on behalf of the interdepartmental National Invasive Species Council (NISC) proposes to appoint new members to the Invasive Species Advisory Committee (ISAC). The Secretary of the Interior, acting as administrative lead, is requesting nominations for qualified persons to serve as members of the ISAC.

DATES: The submission deadline for nominations has been extended. All must now be postmarked by August 25, 2009.

ADDRESSES: Nominations should be sent to Christopher P. Dionigi, PhD, Acting Executive Director, National Invasive Species Council (OS/NISC), Regular Mail: 1849 C Street, NW., Washington, DC 20240; Express Mail: 1201 Eye Street, NW., 5th Floor, Washington, DC 20005.

FOR FURTHER INFORMATION CONTACT: Kelsey Brantley, Program Analyst, at (202) 513-7243, fax: (202) 371-1751, or by e-mail at Kelsey_Brantley@ios.doi.gov.

SUPPLEMENTARY INFORMATION:

Advisory Committee Scope and Objectives

The purpose and role of the Invasive Species Advisory Committee (ISAC) are to provide advice to the National Invasive Species Council (NISC), as authorized by Executive Order 13112, on a broad array of issues concerning invasive species and the economic, ecological, and human health impacts that they cause. NISC is co-chaired by the Secretaries of the Interior, Agriculture, and Commerce, and is charged with coordinating, planning, and leading invasive species Federal invasive species efforts. Pursuant to the Executive Order, NISC developed the 2008-2012 National Invasive Species Management Plan (Plan), which is available at http://www.invasivespeciesinfo.gov. NISC is responsible for implementation of the Plan including any revisions. NISC guides Federal interdepartmental activities concerning invasive species, and NISC encourages planning and action at local, Tribal, State, regional and ecosystem-based levels. NISC also develops recommendations and encourages international cooperation on invasive species. NISC facilitates the development of information networks to document, evaluate, and monitor invasive species populations and their impacts and works to share that information using the Internet and by other means.

ISAC maintains an open and productive dialogue and engages in a regular exchange of information regarding the aforementioned issues. ISAC provides timely advice and information to NISC based upon their understanding of the issue and the views of stakeholders, constituencies, and organizations. The ISAC meets up to three (3) times per year. Terms for many of the current members of the ISAC will expire in October 2009. The Secretary of the Interior is actively soliciting nominees to ISAC and will appoint members to ISAC in consultation with the other members of NISC. Prospective members of ISAC should be knowledgeable in and represent one or more of the following communities of interests: Agronomy, crop production, horticulture, livestock production, wildlife management, fisheries science, aquaculture, rangeland management, forest science, weed science, plant pathology, pesticide science, nematology, biological control of invasive species, microbiology, phycology, entomology, mammalogy, herpetology, ichthyology, ornithology, invertebrate zoology, ecology, invasion biology, agricultural and natural resource economics, fire science, climate change, veterinary medicine, public health, epidemiology, environmental sociology, risk assessment, public risk communication, political science, natural resource journalism, ecological restoration, biodiversity conservation, applicable laws and regulations relevant to invasive species, international affairs and trade, tribal or State government interests, environmental education, ecosystem monitoring, natural resource statistics, library and information science, and natural resource database design and integration.

Prospective nominees should also have knowledge and practical experience in one or more of the following areas: Representing sectors of the national economy that are significantly threatened by biological invasions (e.g., agriculture, fisheries, public utilities, public health, recreational users, hunting and fishing interests, etc.); representing sectors of the national economy whose routine operations may pose risks of new or expanded biological invasions (e.g., shipping, forestry, horticulture, aquaculture, pet trade, tourism, etc.); developing natural resource management plans; invasive species prevention, early detection and rapid response, control and monitoring; integrating science and the human dimension to craft effective solutions to complex conservation issues; environmental education, outreach, and public relations; coordination of diverse groups of stakeholders to resolve complex environmental issues and conflicts; and complying with National Environmental Policy Act (NEPA) and other Federal requirements and policies.

Members will be selected in order to achieve a balanced representation of viewpoints to effectively address the wide range of invasive species issues under consideration. No member may serve on the ISAC for more than two (2) consecutive terms. All terms will be limited to three (3) years in length.

Members of the ISAC and its subcommittees serve without pay. However, while away from their homes or regular places of business in the performance of services of ISAC, ISAC members shall be allowed travel expenses, including per diem in lieu of subsistence, in the same manner as persons employed intermittently in the government service, as authorized by section 5703 of Title 5, United States Code.

Note: Employees of the Federal Government are not eligible for nomination or appointment to ISAC.

Submitting Nominations

Nominations should be typed and must include each of the following:

1. A brief summary of no more than two (2) pages explaining the nominee's suitability to serve on the ISAC.

2. A resume or curriculum vitae.

3. At least two (2) letters of reference.

Incomplete nominations (missing one or more of the items described above) will not be considered. The submission deadline for nominations has been extended. All nominations should now be postmarked no later than August 25, 2009 to Christopher P. Dionigi, PhD, Acting Executive Director, National Invasive Species Council (OS/NISC), Regular Mail: 1849 C Street, NW., Washington, DC 20240; Express Mail: 1201 Eye Street, NW., 5th Floor, Washington, DC 20005.

Christopher P. Dionigi,
Acting Executive Director, National Invasive Species Council.

[FR Doc. E9-18148 Filed 7-29-09; 8:45 am]

BILLING CODE 4310-RK-P